ADMINISTRATIVE CONFERENCE OF THE UNITED STATES

Notice of Public Meeting of the Committee on Regulation

AGENCY: Administrative Conference of the United States.

ACTION: Notice of meeting.

SUMMARY: Pursuant to the Federal Advisory Committee Act of 1972, notice is hereby given that the Administrative Conference of the United States will host a public meeting of the Committee on Regulation of the Assembly of the Conference on Tuesday, October 19, 2010 from 2 p.m. to 5 p.m. to consider a report examining agency procedures for determining whether to preempt state law. To facilitate public participation, the Administrative Conference is inviting public comment on the report to be considered at the meeting, to be submitted in writing no later than October 14, 2010.

DATES: Meeting to be held October 19, 2010. Comments must be received by October 14, 2010.

ADDRESSES: Meeting to be held at Administrative Conference of the United States, Suite 706 South, 1120 20th Street, NW., Washington, DC 20036. Submit comments to either of the following:

(1) E-mail: Comments@acus.gov, with “Preemption” in the subject line; or

(2) Mail: Preemption Comments, Administrative Conference of the United States, Suite 706 South, 1120 20th Street, NW., Washington, DC 20036.

FOR FURTHER INFORMATION CONTACT: Emily F. Schleicher, Designated Federal Officer, Administrative Conference of the United States, Suite 706 South, 1120 20th Street, NW., Washington, DC 20036; Telephone 202-480-2080.

SUPPLEMENTARY INFORMATION: The Administrative Conference of the United States (ACUS) is charged with developing recommendations for the improvement of Federal administrative procedures (5 U.S.C. 591). The objectives of these recommendations are to ensure that private rights may be fully protected and regulatory activities and other Federal responsibilities may be carried out expeditiously in the public interest, to promote more effective public participation and efficiency in the rulemaking process, to reduce unnecessary litigation in the regulatory process, to improve the use of science in the regulatory process, and to improve the effectiveness of laws applicable to the regulatory process.

The Conference has engaged a Professor of Law at New York University School of Law, Catherine M. Sharkey, to research and prepare a report regarding the best practices of federal agencies in obtaining input from state and local governments and other procedures for determining whether to preempt state law (the “Preemption Report”). A copy of the Preemption Report will be available at http://www.acus.gov. The Committee on Regulation has been tasked with reviewing this report and developing recommendations for consideration by the Assembly of the Conference.

From 2 p.m. to 5 p.m. on October 19, 2010, the Committee on Regulation will hold a meeting to consider the Preemption Report and formulate appropriate recommendations in response thereto. This meeting will be open to the public and may end prior to 5 p.m. if business is concluded prior to that time. Members of the public are invited to attend the meeting in person, subject to space limitations, and the Conference will also provide remote public access to the meeting.

Anyone who wishes to attend the meeting in person is asked to RSVP to Comments@acus.gov. Remote access information will be posted on the Conference's Web site, http://www.acus.gov, by no later than October 15, 2010, and will also be available by the same date by calling the phone number listed above. Members of the public who attend the Committee's meeting may be permitted to speak only at the discretion of the Committee Chair, with unanimous approval of the Committee. The Conference welcomes the attendance of the public and will make every effort to accommodate persons with physical disabilities or special needs. If you need special accommodations due to a disability, please inform the Designated Federal Officer no later than 7 days in advance of the meeting using the contact information provided above.

Members of the public may submit written comments on the report to either of the addresses listed above no later than October 14, 2010. All comments will be delivered to the Designated Federal Officer listed on this notice.

Dated: September 29, 2010.
Paul R. Verkuil,
Chairman.

[FR Doc. 2010-24780 Filed 10-1-10; 8:45 am]

BILLING CODE 6110-01-P